DEPARTMENT OF THE INTERIOR

Fish and Wildlife Service

50 CFR Part 92

[Docket No. FWS-R7-MB-2024-0197; FXMB12310700000-256-FF07M01000]

RIN 1018-BG70

Migratory Bird Subsistence Harvest in Alaska

AGENCY: Fish and Wildlife Service, Interior.

ACTION: Final rule.

SUMMARY: We, the U.S. Fish and Wildlife Service (Service), are revising the migratory bird subsistence harvest regulations in Alaska. Subsistence harvest regulations allow for the continuation of customary and traditional subsistence uses of migratory birds in Alaska and establish when and where the harvesting of certain migratory birds may occur within each subsistence region. Subsistence harvest regulations, including the changes set forth in this document, were developed under a co-management process involving the Service, the Alaska Department of Fish and Game, and Alaska Native representatives.

DATES: This rule is effective on April 2, 2025.

ADDRESSES: You may inspect the comments received on the Migratory Bird Subsistence Harvest in Alaska proposed rule at the Federal eRulemaking Portal: https://www.regulations.gov in Docket No. FWS-R7-MB-2024-0197.

FOR FURTHER INFORMATION CONTACT: Wendy Loya, U.S. Fish and Wildlife Service, 1011 E Tudor Road, Mail Stop 201, Anchorage, AK 99503; (907) 227-2942.

SUPPLEMENTARY INFORMATION:

Background

The Migratory Bird Treaty Act of 1918 (MBTA, 16 U.S.C. 703 et seq.) was enacted to protect migratory birds and gives the Secretary of the Interior the authority to regulate the harvest of certain migratory birds. The law further authorizes the Secretary to issue regulations to ensure that the indigenous inhabitants of the State of Alaska may take certain migratory birds and collect their eggs for nutritional and other essential needs during seasons established by the Secretary to provide for the preservation and maintenance of these migratory birds (16 U.S.C. 712(1))

The take of migratory birds for subsistence uses in Alaska occurs primarily during the spring and summer, a timeframe not included in the fall and winter general migratory game bird hunting regulations for the United States. Regulations governing the subsistence harvest of migratory birds in Alaska are located in title 50 of the Code of Federal Regulations (CFR) in part 92. These regulations allow for the continuation of customary and traditional subsistence uses of migratory birds and establish when and where the harvesting of certain birds in Alaska may occur within each subsistence region.

The migratory bird subsistence harvest regulations are developed cooperatively. The Alaska Migratory Bird Co-Management Council (AMBCC) consists of the Service, the Alaska Department of Fish and Game (ADFG), and Alaska Native representatives. The AMBCC's primary purpose is to develop recommendations pertaining to the subsistence harvest of migratory birds.

This rule incorporates changes to the subsistence harvest regulations that were recommended by the AMBCC in 2024 as described below.

Comments Received on the Proposed Rule

Per the collaborative process described above, we published a proposed rule to update the regulations for the taking of migratory birds for subsistence uses in Alaska during the spring and summer (90 FR 7066; January 21, 2025). By the end of the comment period on the proposed rule, we received seven comments. Some of the comments pertained to issues that are outside the scope of this rulemaking action; we hereby respond to the relevant issues that were raised in the public input. We made no changes to the proposed rule as a result of the input we received via the public comments (see Final Regulations, below, for more information).

Issue: Two commenters believe that there should not be a legal subsistence harvest opportunity for migratory birds in Alaska.

Response: For millennia, indigenous inhabitants of Alaska have harvested migratory birds for subsistence purposes during the spring and summer months. The U.S. treaties with Canada and Mexico were amended for the express purpose of allowing subsistence harvest of migratory birds during these months. The MBTA allows for the lawful and sustainable harvest of migratory birds per annual hunting regulations. Spring-summer subsistence and fall-winter hunting regulations are reviewed each year, the impacts of which are monitored by annual population and harvest surveys.

Issue: One commenter expressed concern that the Service should not be funded to authorize this harvest of migratory birds.

Response: The MBTA allows the Secretary of the Interior to authorize the take, including subsistence harvest, of migratory birds if the Secretary determines the status of the birds is sufficient to allow such take. The Service, as the primary agency supporting this authority for the Secretary, promulgates regulations each year that allow the hunting of certain species of migratory game birds. This function is a basic and foundational responsibility of the Service.

Issue: One commenter recommended that the Alaska Native names of birds should be added to the bird species list in these regulations.

Response: Alaska has more than 20 distinct Native languages, so adding all languages to the bird species list in 50 CFR 92.22 would not be practical. The Service makes a concerted effort to include the Alaska Native names of birds in education and outreach materials, especially materials for species closed to harvest.

Issue: One commenter recommended that the Service should enforce laws and regulations surrounding illegal hunting and encourage permits/licenses for subsistence hunting.

Response: To decrease risk of illegal harvest of protected species, the Service relies on public education and outreach to describe species closed to harvest. Please see page 27 of Regulations for the 2024 Alaska Subsistence Spring/Summer Migratory Bird Harvest (available in the docket on www.regulations.gov) as an example of public outreach to protect threatened spectacled and Steller's eiders (U.S. Fish and Wildlife Service 2024). A State hunting license and a State duck stamp are required for most hunters, if 18 years of age or older and hunting waterfowl, although a Federal duck stamp is not required (16 U.S.C. 718a(2)(D)). The Service also monitors and enforces hunting regulations through its Office of Law Enforcement.

Issue: Two commenters recommended keeping the harvest reporting requirements in the Kodiak Island Roaded Area (KIRA).

Response: Reporting requirements are not part of customary and traditional hunting practices, may be a barrier to indigenous participation, and are costly to administer. Harvest reporting requirements are not a requirement of the spring-summer subsistence harvest in Alaska (except in one harvest area: Prince William Sound Area East), and it would be inefficient and ineffective to continue to require it for the KIRA once the permit requirement is removed. A short-term permit and reporting requirement was instituted in the KIRA to measure the level of hunter participation during an experimental hunt from 2021 through 2024. The permit and reporting requirement was not intended to extend beyond the experimental hunt period, but instead was used to inform the decision on whether to make the KIRA open to harvest during the spring-summer period. The permit and reporting requirement demonstrated that both numbers of harvesters and birds/eggs harvested were low. Maintaining a reporting requirement when the permit is not required would be unnecessarily burdensome to hunters.

Issue: One commenter expressed concern over the availability of lead shot and believes that it should be removed from stores and its replacement with nontoxic shot should be funded by the government.

Response: The nationwide ban on the use of lead shot for hunting waterfowl occurred in 1991. The Service's Office of Law Enforcement and law enforcement officers of the National Wildlife Refuge System work with State law enforcement personnel to check waterfowl hunters during the Alaska spring-summer subsistence and fall-winter general seasons for use of nontoxic ammunition. The Service has also worked with vendors in rural Alaska to reduce lead shot availability and sales during the migratory bird hunting seasons.

Issue: Five commenters expressed general support of the process, compliance with Federal regulations, or analyses of effects of the harvest.

Response: The Service appreciates the commenters' general support of the process, compliance with Federal regulations, and analyses of effects of the Alaska subsistence spring-summer migratory bird harvest.

Final Regulations

We are making no changes to the regulatory revisions proposed in our January 21, 2025, proposed rule (90 FR 7066) as a result of the input we received via the public comments. We are, however, making changes to the regulations at §§ 92.6 and 92.31 to make additional updates to species names. In § 92.6, we update the names for two birds that we overlooked in the list of bird species authorized for authentic Native articles of handicraft or clothing (double-crested cormorant and mew gull), and in § 92.31, we update one bird in the list of species open to harvest in the Gulf of Alaska region, Prince William Sound Area East (mew gull). These additional revisions are further discussed below in this document.

The rule sets forth the following revisions to the regulations for the taking of certain migratory birds for subsistence uses in Alaska during the spring and summer.

Revision to Subpart A

In 50 CFR part 92, subpart A (General Provisions), we correct a reference to the United States Code (U.S. Code). The current definition for Alaska Native in § 92.4 incorrectly references 16 U.S.C. 1602(b), which refers to section 3(b) of the Alaska Native Claims Settlement Act. The Alaska Native Claims Settlement Act is found in title 43 not title 16 of the U.S. Code. Therefore, the definition needs to be corrected to reference 43 U.S.C. 1602(b).

Revisions to Subpart C

In 50 CFR part 92, subpart C (General Regulations Governing Subsistence Harvest), we clarify the language regarding regional species closures, remove a species from the list of subsistence migratory bird species, and update the common and or scientific names of three species.

First, we clarify that the list of species open to subsistence harvest in § 92.22 may have additional region-specific harvest restrictions that do not appear in the list of subsistence migratory bird species. The language in the introductory paragraph in § 92.22 states that the only exceptions to the species open to harvest is a regional closure in Southeast Alaska for the harvest of all migratory bird species except glaucous-winged gulls for egg harvesting only. While this provision was accurate at the time the regulation was initially promulgated, current regulations include other regional species-specific harvest restrictions, some of which are included in the Statewide list of subsistence migratory bird species at § 92.22. For example, for tundra swans, the regulation at § 92.22(a)(7) states that these birds and their eggs may be harvested except in Units 9(D) and 10. However, some regions in Alaska have species-specific harvest restrictions that are not listed in the Statewide list of subsistence migratory bird species and are found only in § 92.31 (Region-specific regulations). For example, in the Gulf of Alaska region's Prince William Sound Area East (§ 92.31(j)(2)(iii)), most non-waterfowl species are closed to harvest, but these restrictions can be found only in the region-specific regulations. Given this ambiguity, we are revising the language in the introductory paragraph of § 92.22 to clarify that regional species-specific harvest restrictions may exist in the region-specific regulations.

Second, we are revising the list of subsistence migratory bird species in § 92.22 to reflect the AMBCC's recommendation to close emperor goose harvest Statewide. In 2016, the AMBCC adopted an Emperor Goose Management Plan (Plan) to guide regulations for a spring-summer subsistence harvest of emperor geese and their eggs, which were opened to legal harvest in spring 2017. The Plan was developed in conjunction with the revised Pacific Flyway Council Management Plan for Emperor Geese (2016) that prescribes recommendations for the fall-winter hunting regulations. The two management plans complement each other and use the same population assessment methods, population objectives, and regulatory thresholds in their respective harvest strategies. The harvest strategy in the Plan uses the indicated total bird index (index) from the Yukon-Kuskokwim Delta Coastal Zone (Coastal Zone) survey that the Service conducts to assess population status relative to established thresholds. The harvest strategy specifies that the spring-summer subsistence emperor goose season will be open if the Coastal Zone index from the previous year is greater than 23,000 birds, and harvest will be closed if the index is below that threshold. If the Coastal Zone index is between 23,000 and 28,000 birds, the AMBCC will consider implementing regulatory or nonregulatory conservation measures. The 2024 Coastal Zone index was 18,788 (95 percent confidence interval of 16,589-20,988) birds, which is below the harvest closure threshold of 23,000 birds. Thus, the AMBCC recommended that the 2025 spring-summer subsistence season be closed to harvesting emperor geese. This recommendation was supported by the Pacific Flyway Council and the Service Regulations Committee (SRC) in November 2024 and intended for implementation beginning with the 2025 subsistence harvest season. Therefore, we are removing emperor geese from the list of subsistence migratory bird species open to harvest in § 92.22.

Third, we are updating the list of bird species allowed for use in creating authentic articles of handicraft or clothing in § 92.6 and the list of subsistence migratory bird species in § 92.22 to incorporate changes in the list of birds protected by the MBTA at 50 CFR 10.13. On July 31, 2023, we published in the Federal Register (88 FR 49310) a revised list of migratory birds protected under the MBTA by adding or removing species or changing species names. Reasons for the changes to the list in § 10.13 included revised taxonomy and new evidence of natural occurrence or absence in the United States or U.S. territories. That rule went into effect on August 30, 2023. The revised list had updated nomenclature for two species on the list of bird species at § 92.6 and three species on the list of subsistence migratory bird species at § 92.22.

Therefore, to be consistent with the list in § 10.13, we are changing the common and scientific names of mew gull and changing the scientific names for two species of cormorants, pelagic and double-crested, in §§ 92.6 and 92.22. The species formerly named mew gull has been split into two species, the common gull (Larus canus), which primarily occurs in Europe and Asia, and the short-billed gull (Larus brachyrhynchus), which occurs in North America. Therefore, we are replacing mew gull (Larus canus) with short-billed gull. Pelagic and double-crested cormorants formerly shared the genus name Phalacrocorax, but now this genus has been split into multiple genera. We are updating the scientific names of pelagic cormorant to Urile pelagicus and double-crested cormorant to Nannopterum auritum.

Revisions to Subpart D

In part 92, subpart D (Annual Regulations Governing Subsistence Harvest), we are revising the regulations in § 92.31 to reflect the AMBCC's recommendation to eliminate the permit and reporting requirement in the KIRA and to change the species names for mew gulls. In 2021, spring-summer subsistence harvesting of migratory birds and eggs was opened experimentally for 3 years (2021-2023) in the Kodiak Archipelago region's KIRA by registration permit with a harvest reporting requirement. The Service requested that the AMBCC evaluate harvest information from the experimental seasons before a season could be considered for operational status. In October 2023, the SRC recommended extending the experimental season by 1 year through 2024 to provide hunting opportunity while the AMBCC completed their review. An announcement was published in the Federal Register on May 1, 2024 (89 FR 35010), to inform the public of the 1-year extension.

Following the 2023 subsistence season, the AMBCC evaluated the harvest data from the experimental period. Based on permit report data, the AMBCC determined that harvest was low during the experimental period; the average annual harvest of migratory birds and eggs in the KIRA during 2021-2023 was 122 birds and 100 eggs. For context, the data can be compared to the reported harvest from the last survey of the Kodiak Archipelago region in 2020. Residents in communities of the Kodiak Roaded Area subregion (communities that occur on the road system but hunted outside the KIRA) harvested 3,812 migratory birds and 2,612 eggs during that spring-summer season (Naves and Mengak 2023). Assuming KIRA permit registrants in 2021-2023 were residents of the KIRA, and their hunt effort was similar to 2020, average annual migratory birds and eggs harvested during the experimental period represented 3 percent of total birds (122 of 3,812) and 4 percent of total eggs (100 of 2,612) harvested in the subregion. Based on this information, the AMBCC concluded that an operational spring-summer hunt in the KIRA was unlikely to significantly increase harvest in the Kodiak Archipelago region.

Participation in the permit hunt was low and slightly increased over the experimental period, evidenced by issued permits: 46 in 2021, 58 in 2022, and 64 in 2023. The AMBCC noted that the increase in participants over the experimental period was minimal, but future participation will be difficult to measure without a permit requirement. However, the AMBCC also recognized that a change in participation may be indirectly monitored through public reports to Tribal organizations, the Kodiak City government, local law enforcement, ADFG, and the Service. If the increase is significant, the AMBCC may consider future surveys to assess change in hunter participation, and if warranted, propose regulatory changes. Nonetheless, given the low harvest during the experimental season, the AMBCC recommended eliminating the permit and harvest reporting requirement, acknowledging that such requirements are not part of customary and traditional hunting practices, may be a barrier to indigenous participation, and are costly to administer.

The AMBCC recommended retaining the species closures for Aleutian terns, Arctic terns, short-billed gulls, and emperor geese within the KIRA to protect species of conservation concern. Aleutian tern nesting colonies have declined by more than 80 percent in Alaska over the last 20 years, and only a few colonies remain on Kodiak Island. The largest colonies are within the KIRA, and implementing protective regulations for this species is a priority of the AMBCC. Further, to offer additional protection for Aleutian terns, the season for Arctic terns and short-billed gulls, which nest in the same areas as Aleutian terns, will remain closed to harvest to reduce accidental harvest and colony disturbance of Aleutian terns. The KIRA will also remain closed to emperor geese, a species of management concern, given that an open season may increase harvest for emperor geese along the road system.

On May 22, 2024, the AMBCC recommended an amendment to the regulations for the Kodiak Archipelago region to remove the permit and reporting requirements, retain the four species closures, and make the season operational in the KIRA. This regulatory amendment was supported by the Pacific Flyway AMBCC and the SRC in November 2024 and intended for implementation beginning with the 2025 subsistence season.

Compliance With the MBTA and the Endangered Species Act

The Service has dual objectives and responsibilities for authorizing a subsistence harvest while protecting migratory birds and threatened species. Although these objectives continue to be challenging, they are not irreconcilable, provided that: (1) Regulations continue to protect threatened species, (2) measures to address documented threats are implemented, and (3) the subsistence community and other conservation partners commit to working together.

Mortality, sickness, and poisoning from lead exposure have been documented in many waterfowl species, including threatened spectacled eiders (Somateria fischeri) and the Alaska-breeding population of Steller's eiders (Polysticta stelleri). While lead shot has been banned nationally for waterfowl hunting since 1991, Service staff have documented the availability of lead shot in waterfowl rounds for sale in communities on the Yukon-Kuskokwim Delta and North Slope. The Service will work with partners to increase our education, outreach, and enforcement efforts to ensure that subsistence waterfowl hunting is conducted using nontoxic shot.

Conservation Under the MBTA

We have monitored subsistence harvest for several decades through the use of household surveys in the most heavily used subsistence harvest areas, such as the Yukon-Kuskokwim Delta. Based on our monitoring of the migratory bird species and populations taken for subsistence, we find that this rule will provide for the preservation and maintenance of migratory birds as required by the MBTA. Communication and coordination with the AMBCC and the Pacific Flyway Council have aided in the establishment of hunting regulations to ensure the long-term viability of the migratory birds exposed to harvest.

Endangered Species Act Consideration

Spectacled eiders and the Alaska-breeding population of Steller's eiders are listed as threatened species under the Endangered Species Act of 1973, as amended (ESA; 16 U.S.C. 1531 et seq.). Their migration and breeding distribution overlap with areas where the spring and summer subsistence migratory bird harvest is open in Alaska. Neither species is included in the list of subsistence migratory bird species at § 92.22; therefore, both species are closed to subsistence harvest. Under §§ 92.21 and 92.32, the Service may implement emergency closures, if necessary, to protect Steller's eiders or any other endangered or threatened species or migratory bird population.

Section 7 of the ESA requires the Secretary of the Interior to review other programs administered by the Department of the Interior and utilize such programs in furtherance of the purposes of the ESA. The Secretary is further required to ensure that any action authorized, funded, or carried out by the Department of the Interior is not likely to jeopardize the continued existence of any endangered species or threatened species or result in the destruction or adverse modification of critical habitat.

The Service's Alaska Region Migratory Bird Management Program conducted an intra-agency consultation with the Service's Northern Alaska Fish and Wildlife Field Office on the proposed rule (90 FR 7066; January 21, 2025). The consultation was completed with a biological opinion that concluded these rulemaking actions are not likely to jeopardize the continued existence of endangered or threatened species or result in the destruction or adverse modification of designated critical habitat. Therefore, we have determined that this rule complies with the ESA.

Immediate Effective Date

This rule takes effect on the date set forth above in DATES. To respect the subsistence hunt of many rural Alaskans, either for their cultural or religious exercise, for providing sustenance, or for acquiring materials for cultural use (e.g., handicrafts), the Department of the Interior finds that it is in the public interest to make this rule effective as soon as possible. Delaying the effective date for 30 days would have detrimental effects on Alaskans seeking to conduct subsistence harvest of migratory birds. Within the terms of 5 U.S.C. 553(d)(1) of the Administrative Procedure Act (APA), the regulations in 50 CFR part 92 recognize a statutory exemption provided to rural Alaskans for the subsistence harvest of migratory birds, and this final rule relieves a restriction by removing a permit and reporting requirement. For these reasons, under the authority of the APA and the MBTA, this rule takes effect immediately upon publication in the Federal Register.

Required Determinations

Regulatory Planning and Review (Executive Orders 12866 and 13563)

Executive Order 12866, as reaffirmed by E.O. 13563, provides that the Office of Information and Regulatory Affairs (OIRA) in the Office of Management and Budget will review all significant rules. OIRA has determined that this rule is not significant.

Regulatory Flexibility Act

The Department of the Interior certifies that this rule will not have a significant economic impact on a substantial number of small entities as defined under the Regulatory Flexibility Act (5 U.S.C. 601 et seq.). A regulatory flexibility analysis is not required. Accordingly, a small entity compliance guide is not required. The regulations at 50 CFR part 92 legalize a preexisting subsistence activity. The commodities that are regulated under these regulations are migratory birds, and the resources harvested are consumed. This rule makes only modest changes to the current regulations.

Small Business Regulatory Enforcement Fairness Act

This rule is not a major rule under 5 U.S.C. 804(2), the Small Business Regulatory Enforcement Fairness Act. This rule:

(a) Will not have an annual effect on the economy of $100 million or more. The regulations at 50 CFR part 92 legalize the subsistence harvest of migratory birds and, as such, do not involve commodities traded in the marketplace. This rule will not result in a substantial increase in subsistence harvest or a significant change in harvesting patterns.

(b) Will not cause a major increase in costs or prices for consumers; individual industries; Federal, State, or local government agencies; or geographic regions. This rule does not deal with traded commodities and, therefore, will not have an impact on prices for consumers.

(c) Will not have significant adverse effects on competition, employment, investment, productivity, innovation, or the ability of U.S.-based enterprises to compete with foreign-based enterprises. This rule deals with the harvesting of wildlife for personal consumption. It will not regulate the marketplace in any way to generate substantial effects on the economy or the ability of businesses to compete.

Unfunded Mandates Reform Act

We have determined and certified under the Unfunded Mandates Reform Act (2 U.S.C. 1501 et seq.) that this rule will not impose a cost of $100 million or more in any given year on local, State, or Tribal governments or private entities. The rule will not have a significant or unique effect on local, State, or Tribal governments or the private sector. A statement containing the information required by the Unfunded Mandates Reform Act is not required. Participation on regional management bodies and the AMBCC requires travel expenses for some Alaska Native organizations and local governments. In addition, they assume some expenses related to coordinating involvement of village councils in the regulatory process. Total coordination and travel expenses for all Alaska Native organizations are estimated to be less than $300,000 per year. When funding permits, the Service makes annual grant agreements available to the partner organizations and the ADFG to help offset their expenses. However, this rule does not revise any regulations pertaining to participation in the regulatory process.

Takings (Executive Order 12630)

Under the criteria in Executive Order 12630, this rule does not have significant takings implications. The regulations at 50 CFR part 92 are not specific to particular landownership but instead apply to the harvesting of migratory bird resources throughout Alaska. A takings implication assessment is not required.

Federalism (Executive Order 13132)

Under the criteria in Executive Order 13132, this rule does not have sufficient federalism implications to warrant the preparation of a federalism summary impact statement. The Service worked with the State of Alaska to develop these regulations. Therefore, a federalism summary impact statement is not required.

Civil Justice Reform (Executive Order 12988)

The Department, in promulgating this rule, has determined that it will not unduly burden the judicial system and that it meets the requirements of sections 3(a) and 3(b)(2) of Executive Order 12988.

Government-to-Government Relations With Native American Tribal Governments

Consistent with Executive Order 13175 (65 FR 67249; November 9, 2000), “Consultation and Coordination with Indian Tribal Governments,” and Department of the Interior policy on Consultation with Indian Tribes (December 1, 2011), we sent letters via electronic mail to all 229 Alaska federally recognized Indian Tribes. Consistent with congressional direction (Pub. L. 108-199, div. H, sec. 161, Jan. 23, 2004, 118 Stat. 452, as amended by Pub. L. 108-447, div. H, title V, sec. 518, Dec. 8, 2004, 118 Stat. 3267), we also sent letters to approximately 200 Alaska Native Corporations and other Tribal entities in Alaska soliciting their input as to whether or not they would like the Service to consult with them on the migratory bird subsistence harvest regulations.

We implemented the amended treaty with Canada with a focus on local involvement. The treaty calls for the creation of management bodies to ensure an effective and meaningful role for Alaska's indigenous inhabitants in the conservation of migratory birds. According to the Letter of Submittal, management bodies are to include Alaska Native, Federal, and State of Alaska representatives as equals. They develop recommendations for, among other things: seasons and bag limits, methods and means of take, law enforcement policies, population and harvest monitoring, educational programs, research and use of traditional knowledge, and habitat protection. The management bodies involve village councils to the maximum extent possible in all aspects of management. To ensure maximum input at the village level, we required each of the 11 participating regions to create regional management bodies consisting of at least one representative from the participating villages. The regional management bodies meet twice annually to review and/or submit proposals to the Statewide body.

Paperwork Reduction Act of 1995 (PRA)

This rule does not contain any new collection of information that requires approval by the Office of Management and Budget (OMB) under the Paperwork Reduction Act of 1995 (44 U.S.C. 3501 et seq.). An agency may not conduct or sponsor, and a person is not required to respond to, a collection of information unless it displays a currently valid OMB control number. OMB has previously approved the information collection requirements associated with subsistence harvest reporting and assigned the following OMB control numbers:

• Alaska Migratory Bird Subsistence Harvest Household Survey, OMB Control Number 1018-0124 (expires July 31, 2027), and

• Regulations for the Taking of Migratory Birds for Subsistence Uses in Alaska, 50 CFR part 92, OMB Control Number 1018-0178 (expires July 31, 2027).

National Environmental Policy Act Consideration (42 U.S.C. 4321 et seq.)

The regulations at 50 CFR part 92 and options are considered in the environmental assessment, “Managing Migratory Bird Subsistence Hunting in Alaska: Hunting Regulations for the 2025 Spring/Summer Harvest.” Copies are available from the person listed under FOR FURTHER INFORMATION CONTACT.

Energy Supply, Distribution, or Use (Executive Order 13211)

Executive Order 13211 requires agencies to prepare statements of energy effects when undertaking certain actions. This rule is not a significant regulatory action under this Executive order; it allows only for traditional subsistence harvest and improves conservation of migratory birds by allowing effective regulation of this harvest. This rule will not have any effect on energy supplies, distribution, or use. Therefore, this action is not a significant energy action under Executive Order 13211, and a statement of energy effects is not required.

References Cited

Naves, Liliana C. and Lara, F. Mengak. 2023. Bird and Egg Harvest on the Aleutian-Pribilof Islands and the Kodiak Archipelago, 2020. Alaska Department of Fish and Game Division of Subsistence, Technical Paper No. 493, Anchorage.

U.S. Fish and Wildlife Service. 2024. Regulations for the 2024 Alaska Subsistence Spring/Summer Migratory Birds Harvest.

List of Subjects in 50 CFR Part 92

Hunting, Treaties, Wildlife.

Regulation Promulgation

For the reasons set out in the preamble, the U.S. Fish and Wildlife Service amends 50 CFR part 92 as set forth below:

PART 92—MIGRATORY BIRD SUBSISTENCE HARVEST IN ALASKA

1. The authority citation for part 92 continues to read as follows:

Authority: 16 U.S.C. 703-712.

2. Amend § 92.4 by revising the definition of “Alaska Native” to read as follows:

§ 92.4 Definitions.

* * * * *

Alaska Native means the same as “Native,” defined in section 3(b) of the Alaska Native Claims Settlement Act, 43 U.S.C. 1602(b).

* * * * *

3. Amend § 92.6 by revising paragraphs (b)(1)(xv) and (xxii) to read as follows:

§ 92.6 Use and possession of migratory birds.

* * * * *

(b) * * *

(1) * * *

(xv) Double-crested cormorant (Nannopterum auritum).

* * * * *

(xxii) Short-billed gull (Larus brachyrhynchus).

* * * * *

4. Amend § 92.22 by:

a. Revising the introductory text;

b. Removing paragraph (a)(1);

c. Redesignating paragraphs (a)(2) through (33) as paragraphs (a)(1) through (32); and

d. Revising paragraphs (i)(6) and (l)(1) and (2).

The revisions read as follows:

§ 92.22 Subsistence migratory bird species.

You may harvest birds or gather eggs from the following species, listed in taxonomic order, within all included areas except where region-specific harvest restrictions apply as set forth in § 92.31. When birds are listed at the species level, all subspecies existing in Alaska are also open to harvest. All bird species not listed are closed to harvesting and egg gathering.

* * * * *

(i) * * *

(6) Short-billed Gull (Larus brachyrhynchus).

* * * * *

(l) * * *

(1) Double-crested Cormorant (Nannopterum auritum).

(2) Pelagic Cormorant (Urile pelagicus).

* * * * *

5. Amend § 92.31 by:

a. In paragraph (e), revising the introductory text; and

b. In paragraph (j)(2)(iii), removing the words “mew gulls” and adding in their place the words “short-billed gulls”.

The revision reads as follows:

§ 92.31 Region-specific regulations.

* * * * *

(e) Kodiak Archipelago region. No hunting or egg gathering for Arctic terns, Aleutian terns, short-billed gulls, and emperor geese is allowed in the Kodiak Island Roaded Area. The Kodiak Island Roaded Area consists of that portion of Kodiak Island (including exposed tidelands) south of a line from Termination Point along the north side of Cascade Lake to Anton Larsen Bay and east of a line from Crag Point to the west end of Saltery Cove. Marine waters adjacent to the Kodiak Island Roaded Area within 500 feet from the water's edge are included in the Kodiak Island Roaded Area. The Kodiak Island Roaded Area does not include islands offshore of Kodiak Island.

* * * * *

Maureen Foster,
Chief of Staff, Exercising the Delegated Authority of the Assistant Secretary for Fish and Wildlife and Parks.

[FR Doc. 2025-05689 Filed 4-1-25; 8:45 am]

BILLING CODE 4333-15-P